DEPARTMENT OF DEFENSE

Department of the Navy

[Docket ID: USN-2008-0036]

Privacy Act of 1974; System of Records

AGENCY: Department of the Navy, DoD.

ACTION: Notice to Amend a System of Records.

SUMMARY: The Department of the Navy is amending a system of records notice in its existing inventory of record systems subject to the Privacy Act of 1974 (5 U.S.C. 552a), as amended.

DATES: This proposed action will be effective without further notice on May 30, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: April 24, 2008.
Patricia Toppings,
OSD Federal Register Liaison Officer, Department of Defense.

N04060-1

System name:

Navy and Marine Corps Exchange Sales Control and Security Files (September 20, 1993, 58 FR 48852).

Changes:

System Identification:

Change “N04060-1” to read “NM04060-1”.

* * * * *

System location:

Delete entry and replace with “Organizational elements of the Department of the Navy. Official mailing addresses are published in the Standard Navy Distribution List that is available at http://doni.daps.dla.mil/sndl.aspx.”

* * * * *

Authority for maintenance of the system:

Delete entry and replace with “10 U.S.C. 5013, Secretary of the Navy; 10 U.S.C. 5041, Headquarters, Marine Corps; and E.O. 9397 (SSN).”

Policies and practices for storing, retrieving, accessing, retaining, and disposing of records in the system:

Storage:

Delete entry and replace with “Paper, microfiche, and automated records/computerized database.”

* * * * *

Safeguards:

Delete entry and replace with “Password controlled system, file, and element access based on predefined need-to-know. Physical access to terminals, terminal rooms, buildings and activities' grounds are controlled by locked terminals and rooms, guards, personnel screening and visitor registers.”

* * * * *

System manager(s) and address:

Delete entry and replace with “Policy Official: Commander, Navy Exchange Service Command, 3280 Virginia Beach Boulevard, Virginia Beach, VA 23452-5724.

Record Holder:

Commanding Officer of the activity in question. Official mailing addresses are published in the Standard Navy Distribution List that is available at http://doni.daps.dla.mil/sndl.aspx.”

Notification procedure:

Delete entry and replace with “Individuals seeking to determine whether this system of records contains information about themselves should address written inquiries to the commanding officer of the naval activity in question. Official mailing addresses are published in the Standard Navy Distribution List that is available at http://doni.daps.dla.mil/sndl.aspx.

The request should be signed and include the individual's name and social security number.”

Record access procedures:

Delete entry and replace with “Individuals seeking access to records about themselves should address written inquiries to the commanding officer of the naval activity in question. Official mailing addresses are published in the Standard Navy Distribution List that is available at http://doni.daps.dla.mil/sndl.aspx.

The request should be signed and include the individual's name and Social Security Number.”

* * * * *

NM04060-1

System name:

Navy and Marine Corps Exchange Sales Control and Security Files.

System location:

Organizational elements of the Department of the Navy. Official mailing addresses are published in the Standard Navy Distribution List that is available at http://doni.daps.dla.mil/sndl.aspx.

Categories of individuals covered by the system:

Customers and employees at Navy and Marine Corps Exchanges, including individuals making large dollar volume purchases and contract purchases; individuals having requested adjustments or made claims; individuals having previously passed bad checks or been apprehended for shoplifting.

Categories of records in the system:

Sales and contract records; lists, logs, or card records of individuals; claims and adjustment records; large volume purchase records; mail orders; customer special order records; customer list; correspondence; and abuser notification letters. Records of complaints and investigations of regulatory and criminal violations.

Authority for maintenance of the system:

10 U.S.C. 5013, Secretary of the Navy; 10 U.S.C. 5041, Headquarters, Marine Corps; and E.O. 9397 (SSN).

Purpose(s):

To control sales, prevent and detect abuse of privileges, and determine responsibility when there are violations of regulations or criminal statutes. Information may be furnished to the Naval Criminal Investigative Service or command legal personnel for prosecution of military offenses and other administrative actions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Federal Bureau of Investigation or foreign organizations for further investigation or prosecution.

The ‘Blanket Routine Uses’ that appear at the beginning of the Navy's compilation of systems notices also apply to this system.

Policies and practices for storing, retrieving, accessing, retaining, and disposing of records in the system:

Storage:

Paper, microfiche, and automated records/computerized database.

Retrievability:

Name and Social Security Number (SSN).

Safeguards:

Password controlled system, file, and element access based on predefined need-to-know. Physical access to terminals, terminal rooms, buildings and activities' grounds are controlled by locked terminals and rooms, guards, personnel screening and visitor registers.

Retention and disposal:

Records are retained for six years and then destroyed.

System manager(s) and address:

Policy Official: Commander, Navy Exchange Service Command, 3280 Virginia Beach Boulevard, Virginia Beach, VA 23452-5724.

Record Holder:

Commanding Officer of the activity in question. Official mailing addresses are published in the Standard Navy Distribution List that is available at http://doni.daps.dla.mil/sndl.aspx.

Notification procedure:

Individuals seeking to determine whether this system of records contains information about themselves should address written inquiries to the commanding officer of the naval activity in question. Official mailing addresses are published in the Standard Navy Distribution List that is available at http://doni.daps.dla.mil/sndl.aspx.

The request should be signed and include the individual's name and Social Security Number (SSN).

Record access procedures:

Individuals seeking access to records about themselves should address written inquiries to the commanding officer of the naval activity in question. Official mailing addresses are published in the Standard Navy Distribution List that is available at http://doni.daps.dla.mil/sndl.aspx.

The request should be signed and include the individual's name and Social Security Number (SSN).

Contesting record procedures:

The Navy's rules for accessing records, and for contesting contents and appealing initial agency determinations are published in Secretary of the Navy Instruction 5211.5; 32 CFR part 701; or may be obtained from the system manager.

Record source categories:

Individual, investigators, witnesses, activity sales, and contract records.

Exemptions claimed for the system:

Investigative material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this system has been promulgated in accordance with the requirements of 5 U.S.C. 553(b)(1), (2), and (3), (c) and (e) and published in 32 CFR part 701, subpart G. For additional information, contact the system manager.

[FR Doc. E8-9394 Filed 4-29-08; 8:45 am]

BILLING CODE 5001-06-P